DEPARTMENT OF COMMERCE

National Oceanic and Atmospheric Administration

[Docket No. 0612242720-81597

RIN 0648-ZB55

Availability of Grant Funds for Fiscal Year 2009

AGENCY: National Oceanic and Atmospheric Administration (NOAA), Commerce.

ACTION: Notice.

SUMMARY: NOAA publishes this notice to supplement the agency's solicitation for applications published on July 11, 2008 in an action entitled “Omnibus Notice Announcing the Availability of Grant Funds for Fiscal Year 2009”. This notice announces 13 additional programs that are soliciting applications for FY 2009 funding.

DATES: Proposals must be received by the date and time indicated under each program listing in the SUPPLEMENTARY INFORMATION section of this notice.

ADDRESSES: Proposals must be submitted to the addresses listed in the SUPPLEMENTARY INFORMATION section of this notice for each program. The Federal Register and Federal Funding Opportunity (FFO) notices may be found on the Grants.gov Web site. The URL for Grants.gov is http://www.grants.gov.

FOR FURTHER INFORMATION CONTACT: Please contact the person listed within this notice as the information contact under each program.

SUPPLEMENTARY INFORMATION: Applicants must comply with all requirements contained in the Federal Funding Opportunity announcement for each of the programs listed in this omnibus notice. These Federal Funding Opportunities are available at http://www.grants.gov. The list of entries below describes the basic information and requirements for competitive grant/cooperative agreement programs offered by NOAA. These programs are open to any applicant who meets the eligibility criteria provided in each entry. To be considered for an award in a competitive grant/cooperative agreement program, an eligible applicant must submit a complete and responsive application to the appropriate program office. An award is made upon conclusion of the evaluation and selection process for the respective program.

Table of Contents

I. Background

II. Electronic Access

III. NOAA Project Competitions

National Marine Fisheries Service (NMFS)

1. 2010 Herring Research Set-Aside (RSA)

2. 2010 Mid-Atlantic Research Set-Aside (RSA)

3. FY09 Hawaii Seafood Program

4. New Bedford Harbor Restoration Projects (IV)

5. Pacific Coastal Salmon Recovery Fund

6. Proactive Species Conservation Program

National Ocean Service (NOS)

1. Coastal and Estuarine Land Conservation Program—FY 2010 Competition

2. Coral Reef NGO Partnership

3. FY09 Bay Watershed Education and Training Program, Adult and Community Watershed Education in the Monterey Bay

National Weather Service (NWS)

1. Hydrologic Research

2. Remote Community Alert Systems Program 2009

Office of the Under Secretary (USEC)

1. Dr. Nancy Foster Scholarship Program

2. Environmental Literacy Grants: Science On a Sphere Network Capacity Building

IV. NOAA Project Competitions Listed by NOAA Mission Goals

1. Protect, Restore and Manage the Use of Coastal and Ocean Resources Through Ecosystem-Based Management

Coastal areas are among the most developed in the Nation. More than half the population lives on less than one-fifth of the land in the contiguous United States. Furthermore, employment in near shore areas is growing three times faster than population. Coastal and marine waters support over 28 million jobs and provide a tourism destination for nearly 90 million Americans a year. The value of the ocean economy to the United States is over $115 billion. The value added annually to the national economy by the commercial and recreational fishing industry alone is over $48 billion. U.S. aquaculture sales total almost $1 billion annually. With its Exclusive Economic Zone of 3.4 million square miles, the United States manages the largest marine territory of any nation in the world. Funded proposals should help achieve the following outcomes:

1. Healthy and productive coastal and marine ecosystems that benefit society.

2. A well-informed public that acts as a steward of coastal and marine ecosystems.

Program Names

1. Dr. Nancy Foster Scholarship Program.

2. Coral Reef NGO Partnership.

3. Proactive Species Conservation Program.

4. FY09 Hawaii Seafood Program.

5. FY09 Bay Watershed Education and Training Program, Adult and Community Watershed Education in the Monterey Bay.

6. 2010 Herring Research Set-Aside (RSA).

7. 2010 Mid-Atlantic Research Set-Aside (RSA).

8. Coastal and Estuarine Land Conservation Program—FY 2010 Competition.

9. Pacific Coastal Salmon Recovery Fund.

10. New Bedford Harbor Restoration Projects (IV).

2. Understand Climate Variability and Change To Enhance Society's Ability To Plan and Respond

Climate shapes the environment, natural resources, economies, and social systems that people depend upon worldwide. While humanity has learned to contend with some aspects of climate's natural variability, major climatic events, combined with the stresses of population growth, economic growth, public health concerns, and land-use practices, can impose serious consequences on society. The 1997-98 El Niño, for example, had a $25 billion impact on the U.S. economy—property losses were $2.6 billion and crop losses approached $2 billion. Long-term drought leads to increased and competing demands for fresh water with related effects on terrestrial and marine ecosystems, agricultural productivity, and even the spread of infectious diseases. Decisions about mitigating climate change also can alter economic and social structures on a global scale. We can deliver reliable climate information in useful ways to help minimize risks and maximize opportunities for decisions in agriculture, public policy, natural resources, water and energy use, and public health. We continue to move toward developing a seamless suite of weather and climate products. The Climate Goal addresses predictions on time scales of up to decades or longer.

Funded proposals should help achieve the following outcomes:

1. A predictive understanding of the global climate system on time scales of weeks to decades with quantified uncertainties sufficient or making informed and reasoned decisions.

2. Climate-sensitive sectors and the climate-literate public effectively incorporating NOAA's climate products into their plans and decisions.

Program Names

1. Coral Reef NGO Partnership.

2. Proactive Species Conservation Program.

3. Hydrologic Research.

3. Serve Society's Needs for Weather and Water Information

Floods, droughts, hurricanes, tornadoes, tsunamis, wildfires, and other severe weather events cause $11 billion in damages each year in the United States. Weather is directly linked to public health and safety, and nearly one-third of the U.S. economy (about $3 trillion) is sensitive to weather and climate. With so much at stake, NOAA's role in understanding, observing, forecasting, and warning of environmental events is expanding. With our partners, we seek to provide decision makers with key observations, analyses, predictions, and warnings for a range of weather and water conditions, including those related to water supply, air quality, space weather, and wildfires. Businesses, governments, and nongovernmental organizations are getting more sophisticated about how to use this weather and water information to improve operational efficiencies, to manage environmental resources, and to create a better quality of life. On average, hurricanes, tornadoes, tsunamis, and other severe weather events cause $11 billion in damages per year. Weather, including space weather, is directly linked to public safety and about one-third of the U.S. economy (about $3 trillion) is weather sensitive. With so much at stake, NOAA's role in observing, forecasting, and warning of environmental events is expanding, while economic sectors and its public are becoming increasingly sophisticated at using NOAA's weather, air quality, and water information to improve their operational efficiencies and their management of environmental resources, and quality of life.

Funded proposals should help achieve the following outcomes:

1. Reduced loss of life, injury, and damage to the economy.

2. Better, quicker, and more valuable weather and water information to support improved decisions.

3. Increased customer satisfaction with weather and water information and services.

Program Names

1. Remote Community Alert Systems Program 2009.

2. Hydrologic Research.

4. Provide Critical Support for NOAA's Mission

Strong, effective, and efficient support activities are necessary for us to achieve our Mission Goals. Our facilities, ships, aircraft, environmental satellites, data processing systems, computing and communication systems, and our approach to management provide the foundation of support for all of our programs. This critical foundation must adapt to evolving mission needs and, therefore, is an integral part of our strategic planning. It also must support U.S. homeland security by maintaining continuity of operations and by providing NOAA services, such as civil alert relays through NOAA Weather Radio and air dispersion forecasts, in response to national emergencies. NOAA ships, aircraft, and environmental satellites are the backbone of the global Earth observing system and provide many critical mission support services. To keep this capability strong and current with our Mission Goals, we will ensure that NOAA has adequate access to safe and efficient ships and aircraft through the use of both NOAA platforms and those of other agency, academic, and commercial partners. We will work with academia and partners in the public and private sectors to ensure that future satellite systems are designed, developed, and operated with the latest technology. Leadership development and program support are essential for achieving our Mission Goals. We must also commit to organizational excellence through management and leadership across a “corporate” NOAA. We must continue our commitment to valuing NOAA's diverse workforce, including effective workforce planning strategies designed to attract, retain and develop competencies at all levels of our workforce. Through the use of business process re-engineering, we will strive for state-of-the-art, value-added financial and administrative processes. NOAA will ensure state-of-the-art and secure information technology and systems. By developing long-range, comprehensive facility planning processes, NOAA will be able to ensure right-sized, cost-effective, and safe facilities.

Funded proposals should help achieve the following outcomes:

1. A dynamic workforce with competencies that support NOAA's mission today and in the future.

Program Names

1. Environmental Literacy Grants: Science on a Sphere Network Capacity Building.

5. Support the Nation's Commerce With Information for Safe, Efficient, and Environmentally Sound Transportation

Safe and efficient transportation systems are crucial to the U.S. economy. The U.S. marine transportation system ships over 95 percent of the tonnage and more than 20 percent by value of foreign trade through U.S. ports, including 48 percent of the oil needed to meet America's energy demands. At least $4 billion is lost annually due to economic inefficiencies resulting from weather related air-traffic delays. Improved surface weather forecasts and specific user warnings would reduce the 7,000 weather related fatalities and 800,000 injuries that occur annually from crashes on roads and highways. The injuries, loss of life, and property damage from weather-related crashes cost an average of $42 billion annually. We provide information, services, and products for transportation safety and for increased commerce on roads, rails, and waterways. We will improve the accuracy of our information for marine, aviation, and surface weather forecasts, the availability of accurate and advanced electronic navigational charts, and the delivery of real-time oceanographic information. We seek to provide consistent, accurate, and timely positioning information that is critical for air, sea, and surface transportation. We will respond to hazardous material spills and provide search and rescue routinely to save lives and money and to protect the coastal environment. We will work with port and coastal communities and with Federal and state partners to ensure that port operations and development proceed efficiently and in an environmentally sound manner. We will work with the Federal Aviation Administration and the private sector to reduce the negative impacts of weather on aviation without compromising safety. Because of increased interest by the public and private sectors, we also will expand weather information for marine and surface transportation to enhance safety and efficiency.

Funded proposals should help achieve the following outcomes:

1. Safe, secure, efficient, and seamless movement of goods and people in the U.S. transportation system.

2. Environmentally sound development and use of the U.S. transportation system.

Program Names

1. No programs are currently soliciting proposals for this mission goal.

I. Background

Each of the following grant opportunities provide: a description of the program, funding availability, statutory authority, catalog of federal domestic assistance (CFDA) number, application deadline, address for submitting proposals, information contacts, eligibility requirements, cost sharing requirements, and intergovernmental review under Executive Order 12372.

II. Electronic Access

The full funding announcement for each program is available via the Grants.gov Web site at: http://www.grants.gov. Electronic applications for the NOAA Programs listed in this announcement may be accessed, downloaded, and submitted to that Web site. The due dates and times for paper and electronic submissions are identical. NOAA strongly recommends that you do not wait until the application deadline to begin the application process through Grants.gov. Your application must be received and validated by Grants.gov no later than the due date and time.

Please Note: Validation or rejection of your application by Grants.gov may take up to 2 business days after your submission. Please consider the Grants.gov validation/rejection process in developing your application submission time line.

Grants.gov

Getting started with Grants.gov is easy. Users should note that there are two key features on the Web site: Find Grant Opportunities and Apply for Grants. The site is designed to support these two features and your use of them.

While you can begin searching for grant opportunities immediately, it is recommended that you complete the steps to Get Started (below) ahead of time. This will help ensure you are ready to go when you find an opportunity for which you would like to apply.

Applications From Individuals

In order for you to apply as an individual the announcement must specify that the program is open to individuals and it must be published on the Grants.gov Web site. Individuals must register with the Credential Provider (see Step 3 below) and with Grants.gov (see Step 4 below). Individuals do not need a DUNS number to register (see Step 4 below) and submit their applications. The system will generate a default value in that field.

Grants.gov Application Submission and Receipt Procedures

This section provides the application submission and receipt instructions for NOAA program applications. Please read the following instructions carefully and completely.

1. Electronic Delivery. NOAA is participating in the Grants.gov Initiative that provides the Grant Community a single site to find and apply for grant funding opportunities. NOAA encourages applicants to submit their applications electronically through: http://www.grants.gov/applicants/apply_for_grants.jsp.

2. The following describes what to expect when applying on line using Grants.gov/Apply:

a. Instructions. On the site, you will find step-by-step instructions which enable you to apply for NOAA funds. The Grants.gov/Apply feature includes a simple, unified application process that makes it possible for applicants to apply for grants online. There are six “Get Started” steps to complete at Grants.gov. The information applicants need to understand and execute the steps can be found at: http://www.grants.gov/applicants/get_registered.jsp. Applicants should read the Get Started steps carefully. The site also contains registration checklists to help you walk through the process. NOAA recommends that you download the checklists and prepare the information requested before beginning the registration process. Reviewing and assembling required information before beginning the registration process will make the process fast and smooth and save time.

b. DUNS Requirement. All applicants applying for funding, including renewal funding, must have a Dun and Bradstreet Universal Data Numbering System (DUNS) number. The DUNS number must be included in the data entry field labeled “Organizational Duns” on the form SF-424. Instructions for obtaining a DUNS number can be found at the following Web site: http://www.grants.gov/applicants/get_registered.jsp.

c. Central Contractor Registry and Credential Provider Registration. In addition to having a DUNS number, applicants applying electronically through Grants.gov must register with the Federal Central Contractor Registry and with a Credential Provider. The http://www.grants.gov Web site at http://www.grants.gov/applicants/get_registered.jsp provides step-by-step instructions for registering in the Central Contractor Registry and for registering with a credential provider. All applicants filing electronically must register with the Central Contractor Registry and receive credentials from the Grants.gov credential provider in order to apply on line. Failure to register with the Central Contractor Registry and credential provider will result in your application being rejected by the Grants.gov portal.

The registration process is a separate process from submitting an application. Applicants are, therefore, encouraged to register early. The registration process can take approximately two weeks to be completed. Therefore, registration should be done in sufficient time to ensure it does not impact your ability to meet required submission deadlines. You will be able to submit your application online anytime after you receive your e-authentication credentials.

d. Electronic Signature. Applications submitted through Grants.gov constitute submission as electronically signed applications. The registration and e-authentication process establishes the Authorized Organization Representative (AOR). When you submit the application through Grants.gov, the name of your authorized organization representative on file will be inserted into the signature line of the application. Applicants must register the individual who is able to make legally binding commitments for the applicant organization as the Authorized Organization Representative.

3. Instructions on how to submit an electronic application to NOAA via Grants.gov/Apply:

Grants.gov has a full set of instructions on how to apply for funds on its Web site at: http://www.grants.gov/applicants/apply_for_grants.jsp. The following provides simple guidance on what you will find on the Grants.gov/Apply site. Applicants are encouraged to read through the page entitled, “Complete Application Package” before getting started. Grants.gov allows applicants to download the application package, instructions and forms that are incorporated in the instructions, and work off line. In addition to forms that are part of the application instructions, there will be a series of electronic forms that are provided utilizing an Adobe Reader.

Note for the Adobe Reader: Grants.gov is only compatible with versions 8.1.1 and above. Please do not use lower versions of the Adobe Reader.

Mandatory Fields on Adobe Reader Forms

In the Adobe forms you will note fields that appear with a yellow background and red outline color. These fields are mandatory and must be completed to successfully submit your application. The Adobe forms are designed to fill in common required fields such as the applicant name and address, DUNS number, etc., on all Adobe electronic forms. To trigger this feature, an applicant must complete the SF-424 information first. Once it is completed the information will transfer to the other forms.

Customer Support

The Grants.gov Web site provides customer support via (800) 518-4726 (this is a toll-free number) or through e-mail at support@grants.gov. The Contact Center is open from 7 a.m. to 9 p.m. Eastern time, Monday through Friday, except federal holidays, to address Grants.gov technology issues. For technical assistance to program related questions, contact the number listed in the Program Section of the program you are applying for.

4. Timely Receipt Requirements and Proof of Timely Submission

a. Electronic Submission. All applications must be received by http://www.grants.gov/applicants/apply_for_grants.jsp by the Time on the due date established for each program. Proof of timely submission is automatically recorded by Grants.gov. An electronic time stamp is generated within the system when the application is successfully received by Grants.gov. The applicant will receive an acknowledgement of receipt and a tracking number from Grants.gov with the successful transmission of their application. Applicants should print this receipt and save it, along with facsimile receipts for information provided by facsimile, as proof of timely submission. When NOAA successfully retrieves the application from Grants.gov, Grants.gov will provide an electronic acknowledgment of receipt to the e-mail address of the AOR. Proof of Timely submission shall be the date and time that Grants.gov receives your application. Applications received by Grants.gov, after the established due date for the program will be considered late and will not be considered for funding by NOAA.

Please Note: Validation or rejection of your application by Grants.gov may take up to 2 business days after your submission. Please consider the Grants.gov validation/rejection process in developing your application submission time line.

NOAA suggests that applicants submit their applications during the operating hours of Grants.gov, so that if there are questions concerning transmission, operators will be available to walk you through the process. Submitting your application during the Contact Center hours will also ensure that you have sufficient time for the application to complete its transmission prior to the application deadline. Applicants using dial-up connections should be aware that transmission may take some time before Grants.gov receives it. Grants.gov will provide either an error or a successfully received transmission message. The Grants.gov program office reports that some applicants abort the transmission because they think that nothing is occurring during the transmission process. Please be patient and give the system time to process the application. Uploading and transmitting many files, particularly electronic forms with associated XML schemas, will take some time to be processed.

Evaluation Criteria and Selection Procedures

NOAA has standardized the evaluation and selection process for its competitive assistance programs. There are two separate sets of evaluation criteria and selection procedures (see below), one for project proposals, and the other for fellowship, scholarship, and internship programs.

Project Proposals

Review and Selection Process: Some project proposals may include a pre-application process that provides for feedback to applicants that responded to a call for letters of intent or pre-proposals; however, not all programs will include this pre-application. If a program has a pre-application process, it will be described in the Summary Description section of the announcement and the deadline will be specified in the Application Deadline section.

Upon receipt of a full application by NOAA, an initial administrative review will be conducted to determine compliance with requirements and completeness of the application. A merit review will also be conducted to produce a rank order of the proposals. The NOAA Program Officer may review the ranking of the proposals and make recommendations to the Selecting Official based on the administrative and/or merit review(s) and selection factors listed below. The Selecting Official selects proposals after considering the administrative and/or merit review(s) and recommendations of the Program Officer. In making the final selections, the Selecting Official will award in rank order unless the proposal is justified to be selected out of rank order based upon one or more of the selection factors below. The Program Officer and/or Selecting Official may negotiate the funding level of the proposal. The Selecting Official makes final award recommendations to the Grants Officer authorized to obligate the funds.

Evaluation Criteria

Each reviewer (each announcement will specify the number and type of reviewers) will individually evaluate and rank proposals using the following evaluation criteria:

1. Importance and/or relevance and applicability of a proposed project to the program goals: This ascertains whether there is intrinsic value in the proposed work and/or relevance to NOAA, Federal (other than NOAA), regional, state, or local activities.

2. Technical/scientific merit: This assesses whether the approach is technically sound and/or innovative, if the methods are appropriate, and whether there are clear project goals and objectives.

3. Overall qualifications of applicants: This ascertains whether the applicant possesses the necessary education, experience, training, facilities, and administrative resources to accomplish the project.

4. Project costs: The project's budget is evaluated to determine if it is realistic and commensurate with the project needs and timeframe.

5. Outreach and education: NOAA assesses whether this project provides a focused and effective education and outreach strategy regarding its mission to protect the Nation's natural resources.

Selection Factors

The merit review ratings will be used to provide a rank order to the Selecting Official for final funding recommendations. A Program Officer may first make recommendations to the Selecting Official applying the selection factors listed below. The Selecting Official shall award in the rank order unless the proposal is justified to be selected out of rank order based upon one or more of the following factors:

1. Availability of funding.

2. Balance/distribution of funds:

a. Geographically,

b. By type of institutions,

c. By type of partners,

d. By research areas, and

e. By project types.

3. Whether the project duplicates other projects funded or considered for funding by NOAA or other federal agencies.

4. Program priorities and policy factors.

5. Applicant's prior award performance.

6. Partnerships and/or participation of targeted groups.

7. Adequacy of information necessary for NOAA to make a National Environmental Policy Act determination and draft necessary documentation before funding recommendations are made to the Grants Officer.

Fellowship, Scholarship and Internship Programs Review and Selection Process

Some fellowship, scholarship and internship programs may include a pre-application process that provides for feedback to the applicants that have responded to a call for letters of intent or pre-proposals; however, not all programs will include this pre-application. If a program has a pre-application process, the process will be described in the Summary Description section of the announcement and the deadline will be specified in the Application Deadline section. Upon receipt of a full application by NOAA, an initial administrative review will be conducted to determine compliance with requirements and completeness of the application.

A merit review will also be conducted to produce a rank order of the proposals. The NOAA Program Officer may review the ranking of the proposals and make recommendations to the Selecting Official based on the administrative and/or merit review(s) and selection factors listed below. The Selecting Official selects proposals after considering the administrative and/or merit review(s) and recommendations of the Program Officer. In making the final selections, the Selecting Official will award in rank order unless the proposal is justified to be selected out of rank order based upon one or more of the selection factors below. The Program Officer and/or Selecting Official may negotiate the funding level of the proposal. The Selecting Official makes final award recommendations to the Grants Officer authorized to obligate the funds.

Evaluation Criteria

Each reviewer (each announcement will specify the number and type of reviewers) will individually evaluate and rank proposals using the following evaluation criteria.

1. Academic record and statement of career goals and objectives of the student.

2. Quality of project and applicability to program priorities.

3. Recommendations and/or endorsements of the student.

4. Additional relevant experience related to diversity of education; extra-curricular activities; honors and awards; and interpersonal, written, and oral communications skills.

5. Financial need of the student.

Selection Factors

The merit review ratings will be used to provide a rank order by the Selecting Official for final funding recommendations. A Program Officer may first make recommendations to the Selecting Official by applying the selection factors listed below. The Selecting Official shall award in the rank order unless the proposal is justified to be selected out of rank order based upon one or more of the following factors:

1. Availability of funds.

2. Balance/distribution of funds:

a. Across academic disciplines,

b. By types of institutions, and

c. Geographically.

3. Program-specific objectives.

4. Degree in scientific area and type of degree sought.

III. NOAA Project Competitions

National Marine Fisheries Service (NMFS)

1. 2010 Herring Research Set-Aside (RSA)

Summary Description: NMFS, in cooperation with the New England Fishery Management Council (Council), is soliciting 2010 Atlantic Herring (herring) Research Set-Aside (RSA) proposals that address research priorities concerning the herring fishery. The Herring RSA Program was created by the Council as a vehicle to fund research projects through the sale of research quota. Under this program, the Council may set aside up to 3 percent of the total allowable landings (TAL) to fund selected projects. Proceeds from the sale of research quota are used to pay for research costs and to compensate fishing vessels that harvest research quota. Participating vessels may be authorized to harvest and land fish in excess of Federal possession limits and/or during fishery closures. No Federal funds are provided for research under this notification. NMFS and the Council will give priority to funding proposals addressing the research needs identified in Section I-B of this document.

Funding Availability: No Federal funds are provided for research under this notification, but rather the opportunity to fish with the catch sold to generate income. Individual research projects may apply for the use of more than one herring research set-aside allocation from the 2010 fishing year. The research compensation trips must be conducted in the management area from which the set-aside was derived. In addition, research quota must be harvested in the same fishing year from which it was distributed. No more than 50 percent of an allocated set-aside should be taken before the research begins. Research quota does not need to be harvested during research activities. To establish an approximate value on research quota, the value of herring when it is harvested in 2010 must be estimated. This Federal Funding Opportunity (FFO) uses an estimated price based on the average 2008 price of $248 per metric ton (mt), or $0.11 per lb, as established through herring dealer reports. By requiring researchers to use this price in requesting RSA quota, all proposals will relate herring catch to research costs similarly. The Federal Government may issue an Exempted Fishing Permit (EFP), which may provide special fishing privileges in response to research proposals selected under this program. Funds generated from RSA landings shall be used to cover the cost of the research activities, including vessel costs, and to compensate vessels for expenses incurred during the harvest of research quota. For example, the funds may be used to pay for gear modifications, monitoring equipment, additional provisions (e.g., fuel, ice, food for scientists), or the salaries of research personnel.

The Federal Government is not liable for any costs incurred by the researcher or vessel owner should the sale of research quota not fully reimburse the researcher or vessel owner for their expenses. Any additional funds generated through the sale of fish harvested under the research quota above the cost of research activities shall be retained by the vessel owner as compensation for the use of his/her vessel. If a research project is terminated for any reason prior to completion, any funds collected from the catch sold to pay for research expenses must be turned over to the U.S. Treasury. RSA quota available to applicants under the 2010 Herring RSA Program will be established through the 2010 quota specification rulemaking process. The Council is scheduled to establish the 2010 herring quota, including the RSA quota, in 2009. Based on Council recommendations, NMFS may choose to adopt less than 3 percent of TAL as a set-aside, or decide not to adopt any set-aside for a given fishery. The value of RSA quota will be dictated by market conditions prevailing at the time the compensation fishing trips are conducted. To help researchers develop proposals and proposal budgets for the 2010 Herring RSA Program, recent quota amount and quota value information is listed below as an example. This information is for guidance purposes only; it does not reflect actual RSA quota amounts or quota values that will be in effect for the 2010 fishing year. RSA quota amounts are based on 2008/2009 FMP specifications. RSA quota values are based on NMFS dealer database landings information. This information is listed below in the following format: Management Area/RSA quota amount (mt/lbs)/RSA quota total value. Management Area 1A/1350 mt/2,976,240 lbs/$334,800, Management Area 1B/300 mt/661,386 lbs/$74,400, Management Area 2/900 mt/1,984,160 lbs/$223,200, Management Area 3/1800 mt/3,968,320 lbs/$446,400.

Statutory Authority: Statutory authority for this program is provided under 303(b)(11), 402(e), and 404(c) of the Magnuson-Stevens Fishery Conservation and Management Act, 16 U.S.C.1853(b)(11), 16 U.S.C. 1881a(e), and 16 U.S.C. 1881(c), respectively. Statutory authority for entering into cooperative agreements and other financial agreements with non-profit organizations is found at 15 U.S.C. 1540. Amendment 1 of the Herring FMP established the Herring RSA Program (72 FR 11251; March 12, 2007), codified at 50 CFR 648.207.

Catalog of Federal Domestic Assistance (CFDA) Number: 11.454, Unallied Management Projects.

Application Deadline: Applications must be received and validated by Grants.gov on or before 5 p.m. EST on February 17, 2009. Applications submitted through Grants.gov will have a date and time indication on them. Hard copy applications will be date and time stamped when they are received.

Please Note: It may take Grants.gov up to two (2) business days to validate or reject the application. Please keep this in mind in developing your submission timeline.

Address for Submitting Proposals: To apply for this NOAA Federal funding opportunity, please submit applications to http://www.grants.gov and use the following funding opportunity number NMFS-NEFSC-2010-2001653. Applicants who do not have Internet access may submit their application to Cheryl A. Corbett, NMFS, Northeast Fisheries Science Center, 166 Water Street, Woods Hole, MA 02543.

Information Contacts: Information may be obtained from Paul Howard, Executive Director, New England Fishery Management Council, by phone at 978-465-0492, or fax at 978-465-3116; or Cheryl A. Corbett, NMFS, Northeast Fisheries Science Center, 166 Water Street, Woods Hole, MA 02543, or by phone at 508-495-2070, or fax at 508-495-2004, or via e-mail at cheryl.corbett@noaa.gov, or Ryan Silva, Cooperative Research Liaison, NMFS, Northeast Regional Office by phone at 978-281-9326, or via e-mail at ryan.silva@noaa.gov.

Eligibility: 1. Eligible applicants include institutions of higher education, hospitals, other nonprofits, commercial organizations, individuals, and state, local, and Native American tribal governments. Federal agencies and institutions are not eligible to receive Federal assistance under this notice. Additionally, employees of any Federal agency or Regional Fishery Management Council are ineligible to submit an application under this program. However, Council members who are not Federal employees may submit an application. 2. DOC/NOAA supports cultural and gender diversity and encourages women and minority individuals and groups to submit applications to the RSA program. In addition, DOC/NOAA is strongly committed to broadening the participation of historically black colleges and universities, Hispanic serving institutions, tribal colleges and universities, and institutions that work in underserved areas. DOC/NOAA encourages proposals involving any of the above institutions. 3. DOC/NOAA encourages applications from members of the fishing community and applications that involve fishing community cooperation and participation.

Cost Sharing Requirements: None required.

Intergovernmental Review: Applicants will need to determine if their state participates in the intergovernmental review process. This information can be found at the following Web site: http://www.whitehouse.gov/omb/grants/spoc.html. This information will assist applicants in providing either a Yes or No response to Item 16 of the Application Form, SF-424, entitled “Application for Federal Assistance.”

2. 2010 Mid-Atlantic Research Set-Aside (RSA)

Summary Description: NMFS, in cooperation with the Mid-Atlantic Fishery Management Council (Council), is soliciting proposals under the 2010 Mid-Atlantic Research Set-Aside (RSA) Program that address research priorities concerning the summer flounder, scup, black sea bass, Loligo squid, Illex squid, Atlantic mackerel, butterfish, bluefish, and tilefish fisheries. The Mid-Atlantic RSA Program was created by the Council as a vehicle to fund research projects through the sale of research quota. Under this program, the Council may set aside up to 3 percent of the total allowable landings (TAL) from the above listed species to fund selected projects. Proceeds from the sale of research quota are used to pay for research costs and to compensate fishing vessels that harvest research quota.

Participating vessels may be authorized to harvest and land fish in excess of Federal possession limits and/or during fishery closures. No Federal funds are provided for research under this notification. NMFS and the Council will give priority to funding proposals addressing the research needs identified in Section I-B of this document.

Funding Availability: No Federal funds are provided for research under this notification, but rather the opportunity to fish with the catch sold to generate research funds and to provide compensation for harvesting of RSA quota. The Federal Government may issue an exempted fishing permit (EFP) to selected projects, which may provide special fishing privileges, such as exemption from possession limits and fishery closures. Funds generated from RSA landings shall be used to cover the cost of the research activities, including vessel costs, and to compensate boats for expenses incurred during the collection of the set-aside species. For example, the funds may be used to pay for gear modifications, monitoring equipment, additional provisions (e.g., fuel, ice, food for scientists), or the salaries of research personnel. The Federal Government is not liable for any costs incurred by the researcher or vessel owner should the sale of RSA quota not fully reimburse the researcher or vessel owner for his/her expenses. Any additional funds generated through the sale of fish harvested under the research quota above the cost of the research activities shall be retained by the vessel owner as compensation for the use of his/her vessel. If a research project is terminated for any reason prior to completion, any funds collected from the catch sold to pay for research expenses must be turned over to the U.S. Treasury. The Council, in consultation with the Commission, will incorporate RSA quotas for each of the set-aside species for the 2010 fishing year into the Council's annual quota specification recommendations. NMFS will consider the recommended level of RSA as part of the associated rulemaking process. RSA quota available to applicants under the 2010 Mid-Atlantic RSA Program will be established through the 2010 quota specification rulemaking process. The Council is scheduled to establish quotas, including RSA quotas, by the end of 2009. Based on Council recommendations, NMFS may choose to adopt less than 3 percent of TAL as a set-aside, or decide not to adopt any set-aside for a given fishery.

The value of RSA quota will be dictated by market conditions prevailing at the time the compensation fishing trips are conducted. To help researchers develop proposals and proposal budgets for the 2010 Mid-Atlantic RSA Program, recent quota amount and quota value information is listed below. This information is for guidance purposes only; it does not reflect actual RSA quota amounts or quota values that will be in effect for fishing year 2010. RSA quota amounts are based on 2009 FMP specifications proposed by the Council. RSA quota values are based on landings data taken from Fisheries of the United States, 2007. This information is listed below in the following format: Species/RSA quota amount (lb)/RSA quota total value/RSA value per pound. Summer flounder/553,500 lb/$1,311,795/$2.37 lb, Scup/220,200 lb/$195,978/$0.89 lb, Black sea bass/69,000 lb/$195,270/$2.83 lb, Loligo squid/1,124,356 lb/$966,946/$0.86 lb, Bluefish/743,965 lb/$260,388/$0.35 lb, Butterfish/33,069 lb/$15,542/$0.47 lb, Illex squid/1,587,328 lb/$301,592/$0.19 lb (no Ilex squid was requested), Atlantic mackerel/7,645,948 lb/$917,514/$0.12 (no Atlantic mackerel was requested), Tilefish/0 lb/$0/$0 lb.

Statutory Authority: Statutory authority for this program is provided under sections 303(b)(11), 402(e), and 404(c) of the Magnuson-Stevens Fishery Conservation and Management Act, 16 U.S.C. 1853(b)(11), 16 U.S.C. 1881a(e), and 16 U.S.C. 1881(c), respectively. Statutory authority for entering into cooperative agreements and other financial agreements with non-profit organizations is found at 15 U.S.C. 1540. Framework Adjustment 1 to the Summer Flounder, Scup, and Black Sea Bass FMP, Atlantic Mackerel, Squid, and Butterfish FMP, Bluefish FMP, and Tilefish FMP established the Mid-Atlantic RSA Program (66 FR 42156, August 10, 2001), which is codified in regulations at 50 CFR 648.21(g).

Catalog of Federal Domestic Assistance (CFDA) Number: 11.454, Unallied Management Projects.

Application Deadline: Applications must be received and validated by Grants.gov on or before 5 p.m. EST on March 3, 2009. Applications submitted through Grants.gov will have a date and time indication on them. Hard copy applications will be date and time stamped when they are received.

Please Note: It may take Grants.gov up to two (2) business days to validate or reject the application. Please keep this in mind in developing your submission timeline.

Address for Submitting Proposals: To apply for this NOAA Federal Funding Opportunity, please submit applications to http://www.grants.gov and use the following funding opportunity number: NMFS-NEFSC-2010-2001654. Applicants who do not have Internet access may submit their application to Cheryl A. Corbett, NMFS, Northeast Fisheries Science Center, 166 Water Street, Woods Hole, MA 02543.

Information Contacts: Information may be obtained from Clay Heaton, Fishery Management Specialist, Mid-Atlantic Fishery Management Council, by phone 302-674-2331 ext. 13, or via e-mail at cheaton@mafmc.org; or Cheryl A. Corbett, Cooperative Programs Specialist, NMFS, Northeast Fisheries Science Center, 166 Water Street, Woods Hole, MA 02543, or by phone at 508-495-2070, or fax at 508-495-2004, or via e-mail at cheryl.corbett@noaa.gov; or from Ryan Silva, Cooperative Research Liaison, NMFS, Northeast Regional Office, by phone 978-281-9326, or via e-mail at ryan.silva@noaa.gov.

Eligibility: 1. Eligible applicants include institutions of higher education, hospitals, other nonprofits, commercial organizations, individuals, and state, local, and Native American tribal governments. Federal agencies and institutions are not eligible to receive Federal assistance under this notice. Additionally, employees of any Federal agency or Regional Fishery Management Council are ineligible to submit an application under this program. However, Council members who are not Federal employees may submit an application. 2. DOC/NOAA supports cultural and gender diversity and encourages women and minority individuals and groups to submit applications to the RSA program. In addition, DOC/NOAA is strongly committed to broadening the participation of historically black colleges and universities, Hispanic serving institutions, tribal colleges and universities, and institutions that work in underserved areas. DOC/NOAA encourages proposals involving any of the above institutions. 3. DOC/NOAA encourages applications from members of the fishing community and applications that involve fishing community cooperation and participation.

Cost Sharing Requirements: None required.

Intergovernmental Review: Applicants will need to determine if their state participates in the intergovernmental review process. This information can be found at the following Web site: http://www.whitehouse.gov/omb/grants/spoc.html. This information will assist applicants in providing either a Yes or No response to Item 16 of the Application Form, SF-424, entitled “Application for Federal Assistance.”

3. FY09 Hawaii Seafood Program

Summary Description: The National Marine Fisheries Service NOAA/NMFS) is soliciting competitive applications for the FY09 Hawaii Seafood Program. The Hawaii Seafood Program is designed to help strengthen and to sustain the economic viability of Hawaii's fishing and seafood industry through activities that promote Hawaii fisheries products as high-quality and safe domestic seafood produced by a responsible and well-managed fishery. Projects may seek support for cooperative seafood safety research, technical assistance, and/or seafood education.

Funding Availability: Total funding available under this notice is anticipated to be approximately $700,000. Actual funding availability for this program is contingent upon FY09 Congressional appropriations. Proposals in any amount may be submitted, but awards in excess of $250,000 are unlikely. Award amounts will be determined by the proposals and available funds. There is no set minimum or maximum amount, within the available funding, for any award. There is also no limit on the number of applications that can be submitted by the same applicant; however, multiple applications submitted by the same applicant must clearly identify different projects. If an application for a financial assistance award is selected for funding, NOAA/NMFS has no obligation to provide any additional funding in connection with that award in subsequent years. Notwithstanding verbal or written assurance that may have been received, pre-award costs are not allowed under the award unless approved by the NOAA Grants Officer.

Statutory Authority: The statutory authority for the Hawaii Seafood Program is 15 U.S.C. 713c-3(d).

Catalog of Federal Domestic Assistance (CFDA) Number: 11.452, Unallied Industry Projects.

Application Deadline: Applications must be received and validated by Grants.gov on or before 5 p.m. Hawaii Standard Time on February 13, 2009. Applications submitted through Grants.gov will have a date and time indication on them. Hard copy applications will be date and time stamped when they are received.

Please Note: It may take Grants.gov up to two (2) business days to validate or reject the application. Please keep this in mind in developing your submission timeline.

Address for Submitting Proposals: Proposals should be submitted through Grants.gov. For those applicants without Internet access, proposals should be submitted to NOAA Federal Program Officer, Pacific Islands Regional Office, 1601 Kapiolani Blvd., Suite 1110, Honolulu, Hawaii 96814.

Information Contacts: If you have any questions regarding this proposal solicitation, please contact Scott W.S. Bloom at the NOAA/NMFS Pacific Islands Regional Office, 1601 Kapiolani Blvd., Honolulu, Hawaii 96814, by phone at 808-944-2218, or by e-mail at Scott.Bloom@noaa.gov.

Eligibility: Eligible applicants are individuals, institutions of higher education, other nonprofits, commercial organizations, international organizations, foreign governments, organizations under the jurisdiction of foreign governments, and state, local and Indian tribal governments. Federal agencies, or employees of Federal agencies, are not eligible to apply. The Department of Commerce/National Oceanic and Atmospheric Administration (DOC/NOAA) is strongly committed to broadening the participation of historically black colleges and universities, Hispanic serving institutions, tribal colleges and universities, and institutions that work in undeserved areas. The Hawaii Seafood Program encourages proposals involving any of the above institutions.

Cost Sharing Requirements: No cost sharing or matching is required under this program but is encouraged.

Intergovernmental Review: Applications under this program are subject to Executive Order 12372, Intergovernmental Review of Federal Programs.

4. New Bedford Harbor Restoration Projects (IV)

Summary Description: The New Bedford Harbor Trustee Council (Trustee Council or Council) is responsible for restoration of natural resources injured through the release of polychlorinated biphenyls (PCBs) and other hazardous substances into the New Bedford Harbor Environment. The Council consists of the: (1) Massachusetts Executive Office of Energy and Environmental Affairs; (2) U.S. Department of Commerce, NOAA represented by the National Marine Fisheries Service; and (3) U.S. Department of the Interior represented by the U.S. Fish and Wildlife Service. Using settlement funds, the Council plans and implements projects that restore, replace or acquire the equivalent of the natural resources that have been injured. The Council intends to fund up to $6.0 million for restoration projects addressing the natural resource injury within the New Bedford Harbor Environment. Funding will be provided through grants or cooperative agreements issued through NOAA on behalf of the Council. Approved projects that involve activities not eligible for NOAA Grants may receive funds through other Trustee agencies.

Funding Availability: This solicitation announces that funding of up to $6,000,000 is expected to be available for the Council's Round IV restoration projects. Based upon previous rounds, the Council anticipates that typical project awards will range from $20,000 to $2,000,000. There is no guarantee that sufficient funds will be available to make awards for all proposals. The number of awards to be made as a result of this solicitation will depend on the number of eligible applications received, the amount of funds requested for initiating restoration projects by the applicants, and the merit and ranking of the proposals.

Publication of this notice does not obligate NOAA to fund any specific project or obligate all or any parts of any available funds.

Statutory Authority: 16 U.S.C. 661-667e, 42 U.S.C. 9601-9626.

Catalog of Federal Domestic Assistance (CFDA) Number: 11.463, Habitat Conservation.

Application Deadline: Applications must be received and validated by Grants.gov on or before 5 p.m. EST on February 17, 2009. Applications submitted through Grants.gov will have a date and time indication on them. Hard copy applications will be date and time stamped when they are received.

Please Note: It may take Grants.gov up to two (2) business days to validate or reject the application. Please keep this in mind in developing your submission timeline.

Applications that are postmarked after the deadline date and time will not be considered for funding. No facsimile or electronic mail applications will be accepted.

Address for Submitting Proposals: Electronic submission online: http://www.grants.gov. Paper submission: New Bedford Harbor Trustee Council, c/o National Marine Fisheries Service, 1 Blackburn Drive, Gloucester, MA 01930-2298, Attn: Jack Terrill, 978-281-9136.

Information Contacts: For further information, contact the Trustee Council Coordinator: Jack Terrill, New Bedford Harbor Trustee Council, c/o National Marine Fisheries Service, 55 Great Republic Drive, Gloucester, MA 01930-2298, telephone 978-281-9136, e-mail jack.terrill@noaa.gov.

Eligibility: Eligible applicants include state, local and Indian tribal governments, institutions of higher education, other nonprofit and commercial organizations and individuals whose projects have the potential to benefit the impacted natural resources.

Applications from Federal agencies or employees of Federal agencies can be submitted but cannot be considered for NOAA grants. Such applications may be funded through the other Trustee Council agencies. The Department of Commerce/National Oceanic and Atmospheric Administration (DOC/NOAA) and the Council are strongly committed to broadening the participation of historically black colleges and universities, Hispanic serving institutions, tribal colleges and universities, and institutions that work in underserved areas. The Council encourages proposals involving any of the above institutions.

Cost Sharing Requirements: One way of extending the fixed amount of funds that the Council has to work with is through cost sharing (often referred to as providing matching funds). While it is not required that applications contain cost sharing, the Council strongly encourages respondents to consider cost sharing, and if it is appropriate for a project, to discuss within the application the degree to which cost sharing may be possible. If cost sharing is proposed, applicants are asked to account for both the Council and non-Council amounts. This information will allow the Council to better plan for potential funding awards and future expenditures.

Intergovernmental Review: Applications under this program are subject to the provisions of Executive Order 12372, Intergovernmental Review of Federal Programs. Any applicant submitting an application for funding is required to complete Item 16 on SF-424 regarding clearance by the State Single Point of Contact (SPOC) established as a result of EO 12372. To find out about and comply with a State's process under EO 12372, the names, addresses and phone numbers of participating SPOCs are listed on the Office of Management and Budget's home page at: http://www.whitehouse.gov/omb/grants/spoc.html.

5. Pacific Coastal Salmon Recovery Fund

Summary Description: NOAA announces the availability of Pacific Coastal Salmon Recovery Funds (PCSRF), as authorized in the Northern Boundary and Transboundary Rivers Restoration and Enhancement Fund and Southern Boundary Restoration and Enhancement Fund (16 U.S.C. 3645), to support the restoration and conservation of Pacific salmon and steelhead populations and their habitat. The program provides funding to the States of Alaska, Washington, Oregon, Idaho and California for salmon habitat restoration, salmon stock enhancement, sustainable salmon fisheries and salmon research. It also provides funding to the Pacific Coastal tribes and the Columbia River tribes as authorized in 16 U.S.C. 3645(d)(2)(B) for salmon habitat restoration, salmon stock enhancement, salmon research and supplementation activities.

Funding Availability: Up to $67,000,000 may be available in fiscal year (FY) 2009 for projects as authorized under 16 U.S.C. 3645(d)(2). There are no restrictions on minimum funding requests, but there is a limit of $25,000,000 on a maximum amount requested by any recipient. Award periods may be up to a maximum of 5 years. Actual funding availability for this program is contingent upon FY 2009 Congressional appropriations.

Statutory Authority: 16 U.S.C. 3645(d)(2).

Catalog of Federal Domestic Assistance (CFDA) Number: 11.438, Pacific Coast Salmon Recovery—Pacific Salmon Treaty Program.

Application Deadline: Pre-Applications are not mandatory, but highly encouraged. They must be received no later than February 2, 2009 if the applicant expects to receive any feedback from NMFS on completeness of package and initial determination of compliance with requirements. Final Applications should be submitted via http://www.grants.gov and must be received no later than 11:59 p.m. PST on February 17, 2009. No facsimile or electronic mail applications will be accepted. Paper applications must be postmarked by February 17, 2009. Any application transmitted or postmarked, as the case may be, after the deadline will be considered non-responsive and will not be considered for funding in this competition. Applications submitted through Grants.gov will have a date and time indication on them. Hard copy applications will be date and time stamped when they are received.

Please Note: It may take Grants.gov up to two (2) business days to validate or reject the application. Please keep this in mind in developing your submission timeline.

Address for Submitting Proposals: Applications should be submitted online through the Grants.gov Web site at http://www.grants.gov. If online submission is not possible, paper applications may be mailed to Barry Thom or Nicolle Hill at 7600 Sand Point Way, NE., Seattle, WA 98115-6349.

Information Contacts: For further information on PCSRF, please contact Barry Thom, NMFS Northwest Region Deputy Regional Administrator, at (503) 231-6266. Questions regarding this announcement should be directed to Nicolle Hill, NMFS Northwest Region PCSRF Federal Program Officer, at (206) 526-4358 or Nicolle.Hill@noaa.gov.

Eligibility: Eligible state applicants are the States of Alaska, Washington, Oregon, Idaho and California. Eligible tribal applicants are any federally recognized Pacific Coastal or Columbia River tribes in Washington, Oregon, California or Idaho.

Cost Sharing Requirements: Applicants are required to match 33% of received Federal funds. Indian tribes are exempt from any cost share requirement.

Intergovernmental Review: Applications under this program from state or local governments are subject to the provisions of Executive Order 12372, “Intergovernmental Review of Federal Programs.”

6. Proactive Species Conservation Program

Summary Description: The NMFS is seeking to provide federal assistance, in the form of grants or cooperative agreements, to support conservation efforts for the current list of marine and anadromous species under the Proactive Species Conservation Program. The program supports voluntary conservation efforts designed to conserve marine and anadromous species before they reach the point at which listing as threatened or endangered under the Endangered Species Act (ESA) becomes necessary. Such proactive conservation efforts can serve as an efficient, non-regulatory, and cost-effective means of managing potentially at-risk species. To raise awareness of potentially at-risk species and to foster their proactive conservation, the NMFS created a ‘species of concern’ list in April 2004 (69 FR 19975). `Species of concern' are species that are potentially at risk of becoming threatened or endangered or may potentially require protections under the ESA, yet for which sufficient data are lacking. The species-of-concern status carries no procedural or regulatory protections under the ESA. The list of species of concern and descriptions of each species are available at http://www.nmfs.noaa.gov/pr/species/concern/#list. Under this solicitation, any state, territorial, tribal, or local entity that has authority to manage or regulate these species or activities that affect these species is eligible to apply to this grant program. This document describes how to submit proposals for funding in fiscal year (FY) 2009 and how the NMFS will determine which proposals will be funded.

Funding Availability: This solicitation announces that approximately $200,000 may be available for distribution in FY 2009 under the PSCP; there are no restrictions on minimum or maximum funding requests. Applicants may apply for funds for up to 5 years (see below) so the total amount requested over the life of the project may be more than $200,000, but the limit for FY 2009 should be $200,000. Actual funding availability for this program is contingent upon Fiscal Year 2009 Congressional appropriations. Applicants are hereby given notice that funds have not yet been appropriated for this program. There is no guarantee that sufficient funds will be available to make awards for all qualified projects.

Publication of this notice does not oblige the NMFS to award any specific project or to obligate any available funds; and, if an application is selected for funding, the NMFS has no obligation to provide any additional funding in connection with that award in subsequent years. There is also no limit on the number of applications that can be submitted by the same applicant. Multiple applications submitted by the same applicant must clearly identify distinct projects, and single applications should not include multiple, unrelated projects. Notwithstanding verbal or written assurance that may have been received, pre-award costs are not allowed under the award unless approved by the Grants Officer in accordance with 2 CFR part 225.

Statutory Authority: Authority for the Proactive Species Conservation Program is provided by the following: 16 U.S.C. 661.

Catalog of Federal Domestic Assistance (CFDA) Number: 11.472, Unallied Science Program.

Application Deadline: Applications must be received and validated by Grants.gov on or before 5 p.m. EST on February 12, 2009. Applications submitted through Grants.gov will have a date and time indication on them. Hard copy applications will be date and time stamped when they are received. Hard copy applications must be postmarked by February 12, 2009.

Please Note: It may take Grants.gov up to two (2) business days to validate or reject the application. Please keep this in mind in developing your submission timeline.

Address for Submitting Proposals: Applications should be submitted online through the Grants.gov Web site at http://grants.gov. If online submission is not possible, paper applications may be mailed to NOAA/NMFS/Office of Protected Resources, Attn: Dwayne Meadows, NMFS Office of Protected Resources F/PR3, 1315 East-West Highway, SSMC3, Silver Spring, MD 20910.

Information Contacts: If you have any questions regarding this proposal solicitation, please contact Dwayne Meadows at the NMFS Office of Protected Resources F/PR3, Endangered Species Division, 1315 East-West Highway, Silver Spring, MD 20910, by phone at 301-713-1401 x199, or by e-mail at Dwayne.Meadows@noaa.gov. You may also contact one of the following people in your region for further guidance: Kim Damon-Randall, Northeast Regional Office Kimberly.Damon-Randall@noaa.gov (978-281-9300 x 6535), Alex Meyer, Southeast Regional Office Alex.Meyer@noaa.gov (727-824-5312), Krista Graham, Pacific Islands Regional Office Krista.Graham@noaa.gov (808-944-2238), Melissa Neuman, Southwest Regional Office Melissa.Neuman@noaa.gov (562-980-4115), Eric Murray, Northwest Regional Office Eric.Murray@noaa.gov (503-872-2791), Brad Smith, Alaska Regional Office Brad.Smith@noaa.gov (907-271-3023).

Eligibility: Eligible applicants are U.S. state, territorial, tribal, or local governments that have regulatory or management authority over one or more SOC or activities that affect one or more SOC. A current list of SOC can be found at http://www.nmfs.noaa.gov/pr/species/concern/#list or obtained from the Office of Protected Resources (see section G, Agency Contacts). Applicants are not eligible to submit a proposal under this program if they are a federal employee; however, federal employees may serve as Cooperators. In addition, NMFS employees are not allowed to actively engage in the preparation of proposals or write letters of support for any application. However, if applicable, NMFS employees can write a letter verifying that they are collaborating with a particular project. NMFS contacts (see section G) are available to provide information regarding programmatic goals and objectives associated with the PSCP, other ongoing ESA programs, regional funding priorities, and, along with other Federal Program Officers, can provide information on application procedures and completion of required forms.

Cost Sharing Requirements: There are no cost-sharing or matching requirements under this solicitation.

Intergovernmental Review: Applications submitted by state and local governments are subject to the provisions of Executive Order 12372, “Intergovernmental Review of Federal Programs.” Any applicant submitting an application for funding is required to complete item 16 on SF-424 regarding clearance by the State Single Point of Contact (SPOC) established as a result of EO 12372. To find out about and comply with a State's process under EO 12372, the names, addresses and phone numbers of participating SPOCs are listed in the Office of Management and Budget's home page at: http://www.whitehouse.gov/omb/grants/spoc.html.

National Ocean Service (NOS)

1. Coastal and Estuarine Land Conservation Program (CELCP)—FY 2010 Competition

Summary Description: The purpose of this document is to advise eligible coastal states and territories (requirements described below) that OCRM is soliciting coastal and estuarine land conservation project proposals for competitive funding under the CELCP. States and territories must have submitted to NOAA a CELCP plan on or before February 24, 2009, in order to be eligible to participate in the FY2010 funding opportunity (see Final Guidelines for Coastal and Estuarine Land Conservation Program for more information on CELCP plan requirements, available at http://coastalmanagement.noaa.gov/land/media/CELCPfinal02Guidelines.pdf. Funding is contingent upon the availability of FY 2010 Federal appropriations. It is anticipated that projects funded under this announcement will have a grant start date between March 1, 2010 and October 1, 2010. The program authority is 16 U.S.C. 1456d.

Funding Availability: NOAA anticipates that approximately 20-60 projects may be included on a competitively-ranked list of projects that are ready and eligible for funding in FY 2010. Funding for projects selected for the prioritized list is contingent upon availability of Federal appropriations for FY 2010. Applicants are hereby given notice that funds have not yet been appropriated for this program. The FY 2010 President's Request for the program is $15 million. Annual appropriated funding levels for the CELCP ranged from $8-$50 million from FY 2002-2008. Eligible coastal states and territories may select and submit up to three projects for this competition, including subsequent phases of projects previously funded by CELCP. Applicants may include multiple parcels in a project proposal; however, please note that NOAA will evaluate project readiness and feasibility for completion within the required 18 month timeframe. For such projects, NOAA recommends that applicants limit the scope to acquiring no more than 5 separate parcels (including parcels that would be acquired directly with CELCP funds as well as those that would be counted an in-kind match). See section III.C. for additional details. The maximum amount that may be requested for the Federal share of each project is $3,000,000. The amount of funding per award in previous years has ranged from $380,000 to $3,000,000 for competitively selected projects, depending on the amount requested, size, and type of project. There is no guarantee that sufficient funds will be available to make awards for all qualified projects. Publication of this notice and the list of projects deemed ready and eligible does not oblige NOAA to award any specific project or to obligate any available funds. If a state or territory incurs any costs prior to receiving an award agreement signed by an authorized NOAA official, they do so solely at their own risk of these costs not being included under the award. In no event will NOAA or the Department of Commerce be responsible for proposal preparation or other project costs if this program fails to receive funding or is cancelled because of other agency priorities. Recipients and sub-recipients are subject to all Federal laws and agency policies, regulations, and procedures applicable to Federal financial assistance awards. NOAA is committed to continual improvement of the grants process and accelerating the award of financial assistance to qualified recipients in accordance with the recommendations of the NOAA Program Review Team. If funding is appropriated in FY 2010 for projects recommended through this competition, NOAA will request final grant applications from successful applicants as soon as feasible in order to expedite the grant process (see VI. Award Administration Information). Applicants must be in good standing with all existing NOAA grants in order to receive funds.

Statutory Authority: Authority for the CELCP is 16 U.S.C. 1456d.

Catalog of Federal Domestic Assistance (CFDA) Number: 11.419, Coastal Zone Management Administration Awards.

Application Deadline: Applications must be received and validated by Grants.gov on or before 6 p.m. EST on March 31, 2009. Applications submitted through Grants.gov will have a date and time indication on them.

Please Note: It may take Grants.gov up to two (2) business days to validate or reject the application. Please keep this in mind in developing your submission timeline. Hard copy applications must be received at the OCRM Office at the address listed in this announcement.

Address for Submitting Proposals: The proposal may be submitted electronically through Grants.gov online at: http://www.grants.gov or by mailing an original and four copies of each proposal to Attn: Elaine Vaudreuil, NOAA, Ocean and Coastal Resource Management, National Policy and Evaluation Division (N/ORM7), 1305 East-West Highway, SSMC4, Station 10657, Silver Spring, MD 20910.

Information Contacts: CELCP Program Manager: Elaine Vaudreuil Phone: (301) 713-3155 ext 103 E-mail: Elaine.Vaudreuil@noaa.gov or Elisabeth Morgan Phone: (301) 713-3155 ext 166 E-mail: Elisabeth.Morgan@noaa.gov.

Eligibility: Only coastal states and territories with Coastal Zone Management Programs or National Estuarine Research Reserves approved under the CZMA that have submitted a draft CELCP plan to NOAA on or before February 24, 2009, are eligible to participate in the FY 2010 CELCP competition. A list of the status of each state and territory's CELCP plan including the states and territories eligible for this competition, is available at http://coastalmanagement.noaa.gov/land/media/CELCPplans_web.pdf, and will be updated as of as of February 24, 2009. The designated lead agency for implementing CELCP in each state or territory (“lead agency”) is eligible to submit projects for funding under this competition. The lead agency is presumed to be the agency designated as lead for implementing the state or territory's coastal management program, as approved under the CZMA, unless otherwise designated by the Governor. A list of lead contacts for each state and territory is available on the CELCP Web site at http://coastalmanagement.noaa.gov/land/media/celcpstateleadcontacts.pdf. The designated lead agency may solicit, and include in their application, project proposals from additional eligible state or territorial agencies, local governments as defined at 15 CFR 24.3, or entities eligible for assistance under section 306A(e) of the CZMA (16 U.S.C. 1455a(e)), provided that each has the authority to acquire and manage land for conservation purposes. As defined at 15 CFR 24.3, local government means a county, municipality, city, town, township, local public authority (including any public and Indian housing agency under the United States Housing Act of 1937), school district, special district, intrastate district, council of governments (whether or not incorporated as a nonprofit corporation under State law), any other regional or interstate government entity, or any agency or instrumentality of a local government. Under section 306A(e) of the CZMA, an eligible entity may be a local government, an area-wide agency designated under Chapter 41, Subchapter II, section 3334 of Title 42, a regional agency, or an interstate agency. The public agencies/entities, or types of entities, considered to be eligible within each state or territory may be identified within the state or territory's CELCP plan. A link to a list of Web sites for state or territory CELCP plans is available on the CELCP Web site at http://coastalmanagement.noaa.gov/land/media/CELCPplans_web.pdf. The lead agency will be responsible for: Ensuring that projects are consistent with land conservation priorities outlined in the state or territory's draft or approved CELCP plan; reviewing proposals for completeness; prioritizing proposals according to CELCP plan criteria; and nominating up to three proposals to the national selection process at a requested funding level not to exceed $3 million per proposal. For selected projects, NOAA may make financial assistance awards to the lead agency, which will be responsible for ensuring that allocated funds are used for the purposes of and in a manner consistent with this program, including any funds awarded to an eligible sub-applicant. NOAA may, with concurrence of the state or territory's CELCP lead agency, make a grant directly to the identified sub-applicant in order to expedite completion of an approved project. In such cases, the sub-applicant (as the grant recipient) will be responsible for ensuring that allocated funds are used for the approved purposes and in a manner consistent with this program. Interested parties should contact the appropriate CELCP lead in each state or territory for additional information on their project solicitation process.

Cost Sharing Requirements: Federal funds awarded under this program must be matched with non-Federal funds at a ratio of 1:1, with the following exception. In accordance with 48 U.S.C. 1469a(d), the 1:1 matching requirement is waived for any project under $200,000 for Insular Areas, defined as the jurisdictions of the U.S. Virgin Islands, Guam, American Samoa, and the Commonwealth of the Northern Mariana Islands. For any project equal to or greater than $200,000, the matching requirement would be waived for the portion under $200,000. The 1:1 match requirement would apply to the portion equal to or above $200,000.

Please note: Eligible applicants choosing to apply 48 U.S.C. 1469a(d) should note the use of the waiver and the total amount of funds requested to be waived in the matching funds section of the project proposal. Non-Federal matching funds may be derived from state, local, non-governmental or private sources in the form of cash or in-kind contributions. Cost-sharing requirements for the CELCP are specified in Section 2.7 of the CELCP Guidelines. Sources of matching funds must meet the eligibility criteria and ownership and stewardship conditions of the Federal share, unless specified otherwise. (Eligibility criteria, ownership and stewardship conditions are further described below in section “III.C. Other Criteria that Affect Eligibility.”) The following costs may not be counted toward the non-Federal matching share:—Costs expended prior to the grant award, unless specifically allowed as “banked match” (see C.2, below), or qualified “pre-award” costs that were incurred within 90 days before the start of a grant award.—Lands or services previously used as non-Federal match. Any funds or in-kind contributions, including the value of donated lands or services, that have been previously used to satisfy the matching requirements of this program or that that have been or will be used to satisfy another Federal grant, may not be counted toward the non-Federal matching share.—Lands or services acquired with Federal funds. Unless otherwise provided by Federal law, the value of property, interests in property or services acquired with Federal funding may not be used as non-Federal match.—Cash contribution of Federal funds. Unless otherwise provided by Federal law, funding that originated from Federal sources may not be used as non-Federal match.

Intergovernmental Review: Applications under this program are subject to Executive Order 12372, “Intergovernmental Review of Federal Programs.” If the state participates in this process, a list of participating states and the clearinghouse point of contacts can be found at http://www.whitehouse.gov/omb/grants/spoc.html.

2. Coral Reef NGO Partnership

Summary Description: The purpose of this notice is to invite Non-Governmental Organizations with non-profit 501(c)(3) status, with expertise and experience in supporting coral reef management in U.S. and associated waters to submit a multi-year proposal for establishing a partnership for up to four years with the NOAA CRCP at both a national and international level to further the conservation of coral reefs. This document describes the coral reef conservation partnership that the CRCP envisions, identifies the qualities that NOAA desires in a partner, and describes criteria under which applications will be evaluated for funding consideration. Partnerships selected through this notice will be implemented through a multi-year cooperative agreement of up to four years in length. CRCP funding of up to $600,000 pursuant to section 6403 of the Coral Reef Conservation Act (CRCA) (16 U.S.C. 6401 et seq.) is expected to be available for initiating this partnership in FY 2009. Applications must include a generalized four year work program and a more specific work plan and budget for activities to be funded in FY 2009, in conformance with the requirements in Section IV below. Annual federal CRCP funding is anticipated to increase up to $1,000,000 for the subsequent three years of the agreement. However, annual funding levels and any increases over FY 2009 levels will be dependent upon future budgets appropriated by Congress, partnership success, and CRCP annual priorities. The CRCP requires the partnership to match NOAA cash contributions at a minimum of a 1:1 level overall, and will give priority to those partnerships that can provide cash match for project implementation funds.

Funding Availability: This solicitation announces that CRCP funding of up to $600,000 is expected to be available for establishing this partnership with a single NGO in 2009. NOAA anticipates that the partnership award may increase up to $1,000,000 in FY 2010, 2011, and 2012; however annual funding levels and any increases over FY 2009 levels for successful applicants will be dependent upon future budget appropriations provided by Congress, partnership success, and overall CRCP priorities. The exact amount of funds that may be awarded and specific tasks under each annual award will be determined in pre-award negotiations between the applicant and NOAA representatives. Publication of this document does not obligate NOAA to establish any specific partnership proposed or to obligate all or any parts of the available funds for partnership activities.

Statutory Authority: Authority for the NOAA Coral Reef Conservation Program is provided by Section 6403 of the Coral Reef Conservation Act of 2000 (16 U.S.C. 6401 et seq.).

Catalog of Federal Domestic Assistance (CFDA) Number: 11.419, Coastal Zone Management Administration Awards.

Application Deadline: Partnership applications for funding in 2009 must be received and validated by Grants.gov on or before 5 p.m. EST on February 27, 2009.

Please Note: It may take Grants.gov up to two (2) business days to validate or reject the application. Please keep this in mind in developing your submission timeline. Hard copy applications must be received at the Coral Conservation Division, Office of Ocean and Coastal Resource Management 1305 East-West Highway, 11th floor, Silver Spring, MD 20910 no later that 5 p.m. EST on February 27, 2009.

Address for Submitting Proposals: Full proposals may be submitted to Bill Millhouser, OCRM/NOAA, 1305 East-West Highway, 11th floor, N/ORM-3, Silver Spring, MD 20910.

Information Contacts: Technical point of contact for this announcement is Bill Millhouser at 301-713-3155, extension 189 or e-mail at bill.millhouser@noaa.gov. FAX: 301-713-4367. Address: OCRM/NOAA, N/ORM-3, 1305 East-West Highway, Silver Spring, MD 20910; or Dana Wusinich-Mendez, 301-713-3155 extension 159, dana.wusinich-mendez@noaa.gov.

Eligibility: Eligible applicants are limited to non-profit organizations.

Cost Sharing Requirements: One of the overall principles of the CRCP and the CRCA is to provide funding to individual projects that leverage funds and other contributions from a broad public and private sector to implement locally important habitat restoration to benefit living marine resources. To this end, applicants are required to contribute a minimum 1:1 non-Federal match overall for Federal funds requested. Additionally, those organizations that propose to provide a 1:1 cash match for project implementation funds at the national or regional level (before local, project-specific contributions are included) will be likely to score higher in the evaluation of project costs. While this is not a requirement, the CRCP strongly advises applicants to leverage as much investment as possible. The match can come from a variety of public and private sources and can include in-kind goods and services. Federal funds may not be considered matching funds. Applicants are permitted to combine non-federal contributions from additional partners in order to meet the 1:1 match expected to establish a partnership, as long as the matching funds are not already being used to match other funding sources and are available within the project period stated in the application. Applicants are also permitted to apply federally negotiated indirect costs in excess of federal share limits as described in Section IV. E. 2. “Indirect Costs.” Similarly, proposals that limit administrative costs to 15% will likely score higher on this criterion. The Applicant whose proposal is selected for partnership funding will be bound by the percentage of cost sharing reflected in the award document signed by the NOAA Grants Officer. Successful applicants should be prepared to carefully document matching contributions, including the number of volunteer or community participation hours devoted to specific projects.

Intergovernmental Review: Funding applications under the Center are not subject to Executive Order 12372, Intergovernmental Review of Federal Programs.

3. FY09 Bay Watershed Education and Training Program, Adult and Community Watershed Education in the Monterey Bay

Summary Description: The California B-WET Program, Adult and Community Watershed Education, is a competitively based program that supports existing environmental education programs, fosters the growth of new programs, and encourages the development of partnerships among environmental education programs throughout the Monterey Bay watershed. Funded projects provide meaningful watershed education to adults and communities. The term meaningful watershed education is defined as outcome-based programs that educate citizens about their role in protecting water quality and demonstrate behavioral changes that improve water quality and promote environmental stewardship.

Funding Availability: This solicitation announces that approximately $200,000 may be available in FY 2009 in award amounts to be determined by the proposals and available funds. The National Marine Sanctuary Program anticipates that approximately 3-6 grants will be awarded with these funds and that typical project awards will range from $20,000 to $60,000. The California B-WET Program should not be considered a long-term source of funds; applicants must demonstrate how ongoing programs, once initiated, will be sustained. There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government. Notwithstanding verbal or written assurance that may have been received, there is no obligation on the part of NOAA to cover pre-award costs unless approved by the Grants Officer as part of the terms when the award is made.

Statutory Authority: 33 U.S.C. 893a(a).

Catalog of Federal Domestic Assistance (CFDA) Number: 11.429, Marine Sanctuary Program.

Application Deadline: Applications must be received and validated by Grants.gov on or before 5 p.m. PST on February 27, 2009.

Please Note: It may take Grants.gov up to two (2) business days to validate or reject the application. Please keep this in mind in developing your submission timeline. Both hard copy and electronic proposals received after that time will not be considered for funding and will be returned to the applicant.

Address for Submitting Proposals: Hard copy proposals may be submitted to National Marine Sanctuary Program, attention Seaberry Nachbar, 299 Foam Street, Monterey, CA 93940.

Information Contacts: Please visit the National Marine Sanctuaries B-WET Web site for further information at: http://sanctuaries.noaa.gov/BWET or contact Seaberry Nachbar, Monterey Bay National Marine Sanctuary office, 299 Foam Street, Monterey, CA 93940, or by phone at 831-647-4204, or fax to 831-647-4250, or via Internet at seaberry.nachbar@noaa.gov.

Eligibility: Eligible applicants are institutions of higher education, nonprofit organizations, State or local government agencies, and Indian tribal governments. The Department of Commerce/National Oceanic and Atmospheric Administration (DOC/NOAA) is strongly committed to broadening the participation of historically black colleges and universities, Hispanic serving institutions, tribal colleges and universities, and institutions that service underserved areas. The National Marine Sanctuary Program encourages proposals involving any of the above institutions.

Cost Sharing Requirements: No cost sharing is required under this program; however, the National Marine Sanctuary Program strongly encourages applicants to share as much of the costs of the award as possible. Funds from other Federal awards will not be accepted as matching funds. The nature of the contribution (cash versus in-kind) and the amount of matching funds will be taken into consideration in the review process with cash being the preferred method of contribution.

Intergovernmental Review: Applications under this program are not subject to Executive Order 12372, Intergovernmental Review of Federal Programs.

National Weather Service (NWS)

1. Hydrologic Research

Summary Description: This program represents a NOAA/NWS effort to create a cost-effective continuum of basic and applied research through collaborative research between the Hydrology Laboratory of the NWS Office of Hydrologic Development and academic communities or other private or public agencies which have expertise in the hydrometeorologic, hydrologic, and hydraulic routing sciences, as well as those aspects of social sciences that apply to hydrologic and water resources forecasting and how information on those forecasts is distributed and assimilated by managers and the public. These activities will engage researchers and students in basic and applied research to improve the scientific understanding of river forecasting. Ultimately these efforts will improve the accuracy of forecasts and warnings of rivers and flash floods by applying scientific knowledge and information to NWS research methods and techniques, resulting in a benefit to the public.

NOAA's program is designed to complement other agency contributions to that national effort. This Program addresses two NOAA goals: (1) Understand Climate Variability and Change To Enhance Society's Ability To Plan and Respond and (2) Serve Society's Needs for Weather and Water Information. NOAA will give sole attention to individual proposals addressing the following science priority: Use of weather observations and weather and climate forecasts for the improvement of hydrologic and water resources forecasts. The Office of Hydrologic Development is interested in receiving proposals that demonstrate the use of in situ and remote sensing techniques for weather, hydrologic and water resources observations; numerical weather and climate forecasts; and coupled surface and groundwater systems, to demonstrate how the combination of those techniques could enhance hydrologic and water resources forecasts. OHD is specifically interested in the use of cost-effective observation techniques that are applicable at high spatial resolution to large areas and that, in combination with land surface models, allow the estimation of soil moisture profiles in areas subject to artificial irrigation.

Funding Availability: Because of Federal budget uncertainties, it has not been determined how much money will be available through this announcement. It is also uncertain exactly when the funding from the Federal budget will be available. It is expected that up to two awards will be made, depending on availability of funds and quality of the proposals. Proposals in this area should assume an annual budget of no more than $125,000 per year for a period of 2 years.

Statutory Authority: Authority for the Hydrologic Research programs is provided by the Weather Service Organic Act, 15 U.S.C. 313, and 33 U.S.C 883d.

Catalog of Federal Domestic Assistance (CFDA) Number: 11.462, Hydrologic Research.

Application Deadline: Applications must be received and validated by Grants.gov on or before 3 p.m. EST March 3, 2009.

Please Note: It may take Grants.gov up to two (2) business days to validate or reject the application. Please keep this in mind in developing your submission timeline. Both hard copy and electronic proposals received after that time will not be considered for funding and will be returned to the applicant. The submission date on proposals submitted through Grants.gov will be the time and date indicator in the Grants.gov submission. For proposals submitted by hard copy, the submission date will be the time stamp on the received documents.

Address for Submitting Proposals: Applications should be submitted through http://www.grants.gov. Federal agencies or non-Federal applicants without internet access must submit applications to: Pedro Restrepo, NOAA/NWS, 1325 East-West Highway, Room 8176, Silver Spring, Maryland 20910-3283. No facsimile or e-mail copies will be accepted.

Information Contacts: The point of contact is Pedro Restrepo, NOAA/NWS/W-OHD1; 1325 East-West Highway, Room 8176; Silver Spring, Maryland 20910-3283, or by phone at 301-713-0640 ext. 210, or fax to 301-713-0963, or via e-mail to Pedro.Restrepo@noaa.gov. Questions requesting clarifications on the current proposal must be made via e-mail to Pedro.Restrepo@noaa.gov. All questions and NOAAs responses will be made public by posting on the Web under the Current Announcement heading at http://www.weather.gov/oh/src/.

Eligibility: Eligible applicants are Federal agencies; institutions of higher education; other nonprofits; commercial organizations; foreign governments; organizations under the jurisdiction of foreign governments; international organizations; state, local and Indian tribal governments. Applications from non Federal and Federal applicants will be competed against each other. Proposals selected for funding from non Federal applicants will be funded through a project grant or cooperative agreement under the terms of this notice. Proposals selected for funding from NOAA scientists shall be effected by an intra agency fund transfer. Proposals selected for funding from a non NOAA Federal agency will be funded through an inter-agency transfer.

Please Note: Before non-NOAA Federal applicants may be funded, they must demonstrate that they have legal authority to receive funds from another Federal agency in excess of their appropriation. Because this announcement is not proposing to procure goods or services from applicants, the Economy Act (31 U.S.C. 1535) is not an appropriate legal basis.

Cost Sharing Requirements: A matching share is not required by this program.

Intergovernmental Review: Applications under this program are not subject to Executive Order 12372, Intergovernmental Review of Federal Programs.

2. Remote Community Alert Systems Program 2009

Summary Description: The Remote Community Alert Systems Program 2009 represents a NOAA/NWS effort to provide for outdoor alerting technologies in remote communities effectively underserved by commercial mobile service for the purpose of enabling residents of those communities to receive emergency messages. These activities will engage the private sector, academia, and States in opportunities and technologies to further disseminate emergency messages. This program is a contributing element of the Warning, Alert, and Response Network (WARN) Act. NOAA's program is designed to complement other agency contributions to that national effort. The Federal Communications Commission has defined a “remote” area to consist of a county with a population density of 100 persons per square mile or less, based on the most recently available Census data. Also, “commercial mobile service” means those services that are required to provide E911 services in accordance with Section 20.18 of the Commission's rules. “Effectively underserved” identifies “remote communities” that do not receive “commercial mobile service” as demonstrated by coverage maps, technical analysis, field tests, or any other reasonable means.

The program priorities for this opportunity support NOAA's mission support goal of: Weather and Water—Serve Society's Needs for Weather and Water Information.

Funding Availability: The total funding amount available for proposals is anticipated to be approximately $2,130,000. We anticipate making multiple awards, approximately 25, ranging from $50,000 to $250,000.

Statutory Authority: Authority for the Remote Community Alert Systems Program is provided by: 47 U.S.C. 1204.

Catalog of Federal Domestic Assistance (CFDA) Number: 11.468, Applied Meteorological Research.

Application Deadline: Applications must be received and validated by Grants.gov on or before 5 p.m. EST March 27, 2009.

Please Note: It may take Grants.gov up to two (2) business days to validate or reject the application. Please keep this in mind in developing your submission timeline. Both hard copy and electronic proposals received after that time will not be considered for funding and will be returned to the applicant. The submission date on proposals submitted through Grants.gov will be the time and date indicator in the Grants.gov submission. For proposals submitted by hard copy, the submission date will be the time stamp on the received documents. Hard copy applications must be received by NOAA/NWS no later than 5 p.m., March 27, 2009.

Address for Submitting Proposals: Proposals should be submitted through http://www.grants.gov. For those organizations without Internet access, proposals may be sent to Craig Hodan, NOAA/NWS, 1325 East-West Highway, Room 3348, Silver Spring, Maryland 20910, Phone: 301-713-9480 x 187, e-mail: craig.hodan@noaa.gov. E-mail and fax submissions will not be accepted.

Information Contacts: Craig Hodan, NOAA/NWS, 1325 East-West Highway, Room 3348, Silver Spring, Maryland 20910, Phone: 301-713-9480 x 187, e-mail: craig.hodan@noaa.gov.

Eligibility: Eligible applicants are State Governments, U.S. Territories or Possessions and Tribal Communities. This restriction is needed to efficiently manage the potential number of applications.

Cost Sharing Requirements: No cost sharing is required under this program.

Intergovernmental Review: Applications under this program are not subject to Executive Order 12372, Intergovernmental Review of Federal Programs.

Office of the Under Secretary (USEC)

1. Dr. Nancy Foster Scholarship Program

Summary Description: The Dr. Nancy Foster Scholarship Program provides support for independent graduate-level studies in oceanography, marine biology or maritime archaeology (including all science, engineering, and resource management of ocean and coastal areas), particularly to women and minorities. Individuals who have been accepted to a graduate program and are U.S. citizens may apply. Scholarship selections are based on academic excellence, letters of recommendation, research and career goals, and financial need. Applicants must have and maintain a minimum 3.0 grade point average each term cumulatively and maintain full-time student status for the duration of the appointment. Dr. Nancy Foster Scholarships may provide, subject to appropriations, yearly support of up to $32,000 per student (a 12-month stipend of $20,000 in addition to a tuition allowance of up to $12,000), and up to $20,000 support for a four to six week research collaboration at a NOAA facility. A maximum of $84,000 may be provided to masters students (up to 2 years of support and one research collaboration opportunity) and up to $168,000 may be provided to doctoral students (up to 4 years of support and two research collaboration opportunities).

Dr. Nancy Foster Scholarship Program recipients will travel to Silver Spring, MD, for a NOAA Orientation and to meet with National Marine Sanctuaries Program staff. Awards will include travel expenses to attend the mandatory Scholarship Program orientation. Dr. Nancy Foster Scholarship recipients will also be required to participate in a research collaboration at a NOAA facility. Master‘s candidates will be supported for one research collaboration opportunity and Doctoral candidates will be supported for up to two research collaboration opportunities over the duration of the scholarship. The research collaboration opportunity is designed to allow scholars to conduct their research at a NOAA facility and on NOAA mission research for four to six weeks. Support for the research opportunity may be used toward allowable travel costs such as: Travel to and from the NOAA facility, housing, and per diem while conducting research at the NOAA facility. Applicants who are awarded the Nancy Foster Scholarship will identify their research collaboration opportunity(s) topic and NOAA facility during the initial scholarship year. Additional Information about the scholarship can be obtained in the full announcement text of the Federal Funding Opportunity.

Funding Availability: Subject to appropriations, approximately $500,000 will be available for FY 2009. Up to 10 new awards may be made, based on the availability of funds. The Dr. Nancy Foster Scholarship Program provides yearly support of up to $32,000 per student (a 12-month stipend of $20,000 in addition to a tuition allowance of up to $12,000) and up to $20,000 support for a four to six week research collaboration at a NOAA facility. A maximum of $84,000 may be provided to masters students (up to 2 years of support and one research collaboration opportunity) and up to $168,000 may be provided to doctoral students (up to 4 years of support and up to two research collaboration opportunities).

Travel support will also be provided to Dr. Nancy Foster Scholarship Program recipients to attend a NOAA orientation in Silver Spring, MD, where they will also meet with National Marine Sanctuaries Program leadership and staff.

Statutory Authority: 16 U.S.C. 1445c-1 and 16 U.S.C.A. 1445c.

Catalog of Federal Domestic Assistance (CFDA) Number: 11.481, Educational Partnership Program.

Application Deadline: Complete applications must be received and validated by Grants.gov on or before 5 p.m. EST March 31, 2009.

Please Note: It may take Grants.gov up to two (2) business days to validate or reject the application. Please keep this in mind in developing your submission timeline. Completed applications must be received by the Program Manager between January 1, 2009, and March 31, 2009, at 5 p.m. Eastern Daylight Time, through Grants.gov.

Address for Submitting Proposals: Except for transcripts and letters of recommendation, as discussed in Sections IV.B.7. and IV.B.8. of the full Federal funding opportunity, applications must be submitted through Grants.gov. If an applicant does not have Internet access to complete the application through Grants.gov, hard copy applications may be submitted in one envelope to: Dr. Nancy Foster Scholarship Program, ATTN: Dr. Priti Brahma, NOAA Office of Education, 1315 East-West Highway, SSMC3, Room 10725, Silver Spring, MD 20910. Failure to submit all application items, except transcripts and letters of recommendation, in one envelope will result in disqualification of the application.

Information Contacts: Send requests for information to fosterscholars@noaa.gov or mail requests to Dr. Nancy Foster Scholarship Program, ATTN: Dr. Priti Brahma, Office of Education, 1315 East-West Highway, SSMC3, Room 10725, Silver Spring, MD 20910.

Eligibility: Only individuals who are United States citizens currently pursuing a masters or doctoral level degree in oceanography, marine biology or maritime archaeology (including all science, engineering, and resource management of ocean and coastal areas) at a U.S. accredited graduate institution are eligible for an award under this scholarship program. In addition, students must have and maintain a minimum cumulative and term grade point average of 3.0 and maintain full-time student status for every term and for the duration of their award. Universities or other organizations may not apply on behalf of an individual.

Prospective scholars do not need to be enrolled, but must be admitted to a graduate level program in order to apply for this scholarship. Eligibility must be maintained for each succeeding year of support and annual reporting requirements, to be specified at a later date, will apply.

Cost Sharing Requirements: There are no matching requirements for this award.

Intergovernmental Review: Applications under this program are not subject to Executive Order 12372, Intergovernmental Review of Federal Programs.

2. Environmental Literacy Grants: Science On a Sphere Network Capacity Building

Summary Description: The NOAA Office of Education (OEd) is issuing a request for applications for projects designed to build capacity within NOAA’s Science On a Sphere (SOS) Users Collaborative Network (Network) to enhance the educational use of spherical display systems as public exhibits. There are two goals for this program: (1) To improve the understanding of how spherical display systems can be used to enhance informal science education learning, and (2) to build environmental literacy among the general public through increased use of ocean, coastal, Great Lakes, weather, and climate data in informal education institutions. This FFO meets NOAA's Mission Goal to provide Critical Support for NOAA's Mission. It is required that the Principal Investigator (PI) for any application submitted to this opportunity be affiliated with a Network member institution. Members of the Network are those institutions that have received funding from NOAA related to spherical display systems or have purchased NOAA's SOS system to display in a public education setting. More information on the Network and an up-to-date list of members is available at: http://www.oesd.noaa.gov/network. It is anticipated that recommendations for funding under this announcement will be made by May 29, 2009, and that projects funded under this announcement will have a start date no earlier than August 1, 2009. Note: An MS Word-formatted version of this announcement is available at http://www.oesd.noaa.gov/funding_opps.html.

Funding Availability: NOAA anticipates the availability of approximately $500,000 of total Federal financial assistance from FY09 and FY10 for Environmental Literacy Grants for Science On a Sphere Network Capacity Building. NOAA will only consider projects that have an award period of one to three years. The total Federal amount that may be requested from NOAA shall not exceed $100,000 including direct and indirect costs.

Applications requesting Federal support from NOAA of more than $100,000 total for all years of the award will not be considered for funding through this announcement. The amount of funding available through this announcement will be dependent upon the final FY09 and FY10 appropriation. Publication of this notice does not oblige DOC/NOAA to award any specific project or to obligate any available funds. If an applicant incurs any costs prior to receiving an award agreement from an authorized NOAA Grants Officer, the applicant would do so solely at one's own risk of such costs not being included under the award.

Statutory Authority: Authority for this program is provided by the following 33 U.S.C. 893a(a).

Catalog of Federal Domestic Assistance (CFDA) Number: 11.469, Congressionally Identified Awards and Projects.

Application Deadline: The deadline for applications is 5:00 p.m. e.s.t. on February 19, 2009. Applications submitted through Grants.gov will have a date and time indication on them. Hard copy applications will be date and time stamped when they are received.

Please Note: It may take Grants.gov up to two (2) business days to validate or reject the application. Please keep this in mind in developing your submission timeline.

Address for Submitting Proposals: For non-Federal applicants, application should be submitted through grants.gov (http://www.grants.gov). For Federal applicants, please contact NOAA's Office of Education by contacting Carrie McDougall at Carrie.mcdougall@noaa.gov or (202) 482-0875 or John McLaughlin at john.mclaughlin@noaa.gov or (202) 482-2893 for application submission instructions. If an applicant does not have Internet access, paper applications will be accepted. Paper applications must be submitted with completed, signed, original forms and one printed copy of the rest of the application. Applicants are also asked to provide a CD of the application, including scanned signed forms or forms with electronic signatures. Paper applications should be delivered to: Carrie McDougall, Dept. of Commerce, NOAA Office of Education, 1401 Constitution Avenue NW., Room 6863, Washington, DC 20230. See the Office of Education's frequently asked questions site http://www.oesd.noaa.gov/dataviz_faqs.html for more details. Please note: Paper applications submitted via the U.S. Postal Service can take up to 4 weeks to reach this office; therefore applicants are recommended to send paper applications via expedited shipping methods (e.g., Airborne Express, DHL, Fed Ex, UPS).

Information Contacts: Please visit the OEd Web site for further information at http://www.oesd.noaa.gov/funding_opps.html or contact Carrie McDougall at (202) 482-0875 or carrie.mcdougall@noaa.gov; or John McLaughlin at (202) 482-2893 or john.mclaughlin@noaa.gov. For those applicants without Internet access, hard copies of referenced documents may be requested from NOAA's Office of Education by contacting Carrie McDougall at (202) 482-0875 or John McLaughlin at (202) 482-2893 or sending a letter to Carrie McDougall, DOC/NOAA Office of Education, 1401 Constitution Avenue NW., Room 6863, Washington, DC 20230.

Eligibility: Eligible applicants are U.S. institutions of higher education, for-profit and non-profit organizations, and state, local, and Indian tribal governments and Federal agencies in the United States. Foreign institutions, foreign organizations and foreign government agencies are not eligible to apply. Individuals not affiliated with an eligible institution are not eligible to apply for funding under this announcement.

Please Note: Before non-NOAA Federal applicants may be funded, they must demonstrate that they have legal authority to receive funds from another Federal agency in excess of their appropriation.

Because this announcement is not proposing to procure goods or services from applicants, the Economy Act (31 U.S.C. 1535) is not an appropriate legal basis. The Department of Commerce/National Oceanic and Atmospheric Administration (DOC/NOAA) is strongly committed to increasing the participation of Minority Serving Institutions (MSIs), i.e., Historically Black Colleges and Universities, Hispanic-serving institutions, Tribal colleges and universities, Alaskan Native and Native Hawaiian institutions, and institutions that work in underserved communities. Applications are encouraged that involve any of the above types of institutions. An individual may serve as Principal Investigator (PI) on only one application through this funding opportunity. However, individuals may serve as co-PIs or key personnel on more than one application.

Cost Sharing Requirements: There are no cost-sharing requirements. Applicant resource commitment will, however, be considered in the competitive selection process (see the Federal Funding Opportunity Notice, section V.A.4. Evaluation Criteria, Project Costs).

Intergovernmental Review: Applications submitted to this funding opportunity are not subject to Executive Order 12372, Intergovernmental Review of Federal Programs.

Limitation of Liability

Funding for programs listed in this notice is contingent upon the availability of Fiscal Year 2009 appropriations. Applicants are hereby given notice that funds have not yet been appropriated for the programs listed in this notice. In no event will NOAA or the Department of Commerce be responsible for proposal preparation costs if these programs fail to receive funding or are cancelled because of other agency priorities. Publication of this announcement does not oblige NOAA to award any specific project or to obligate any available funds.

Universal Identifier

Applicants should be aware that they are required to provide a Dun and Bradstreet Data Universal Numbering System (DUNS) number during the application process. See the October 30, 2002 Federal Register (67 FR 66177) for additional information. Organizations can receive a DUNS number at no cost by calling the dedicated toll-free DUNS Number request line at 1-866-705-5711 or via the Internet http://www.dunandbradstreet.com.

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216—6—TOC.pdf, NEPA Questionnaire, http://www.nepa.noaa.gov/questionnaire.pdf, and the Council on Environmental Quality implementation regulations, http://ceq.eh.doe.gov/nepa/regs/ceq/toc-ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

Compliance With Department of Commerce Bureau of Industry and Security Export Administration Regulations

(a) This clause applies to the extent that this financial assistance award involves access to export-controlled information or technology.

(b) In performing this financial assistance award, the recipient may gain access to export-controlled information or technology. The recipient is responsible for compliance with all applicable laws and regulations regarding export-controlled information and technology, including deemed exports. The recipient shall establish and maintain throughout performance of the financial assistance award effective export compliance procedures at non-NOAA facilities. At a minimum, these export compliance procedures must include adequate controls of physical, verbal, visual, and electronic access to export-controlled information and technology.

(c) Definitions

(1) Deemed export. The Export Administration Regulations (EAR) define a deemed export as any release of technology or source code subject to the EAR to a foreign national, both in the United States and abroad. Such release is “deemed” to be an export to the home country of the foreign national. 15 CFR 734.2(b)(2)(ii).

(2) Export-controlled information and technology. Export-controlled information and technology is information and technology subject to the EAR (15 CFR parts 730 et seq.), implemented by the DOC Bureau of Industry and Security, or the International Traffic In Arms Regulations (ITAR) (22 CFR parts 120-130), implemented by the Department of State, respectively. This includes, but is not limited to, dual-us items, defense articles and any related assistance, services, software or technical data as defined in the EAR and ITAR.

(d) The recipient shall control access to all export-controlled information and technology that it possesses or that comes into its possession in performance of a financial assistance award, to ensure that access is restricted, or licensed, as required by applicable Federal laws, Executive Orders, and/or regulations.

(e) Nothing in the terms of this financial assistance award is intended to change, supersede, or waive any of the requirements of applicable Federal laws, Executive Orders or regulations.

(f) The recipient shall include this clause, including this paragraph (f), in all lower tier transactions (subawards, contracts, and subcontracts) under the financial assistance award that may involve access to export-controlled information technology.

NOAA Implementation of Homeland Security Presidential Directive—12

If the performance of a financial assistance award, if approved by NOAA, requires recipients to have physical access to Federal premises for more than 180 days or access to a Federal information system, any items or services delivered under a financial assistance award shall comply with the Department of Commerce personal identity verification procedures that implement Homeland Security Presidential Directive -12, FIPS PUB 201, and the Office of Management and Budget Memorandum M-05-24. The recipient shall insert this clause in all subawards or contracts when the subaward recipient or contractor is required to have physical access to a Federally controlled facility or access to a Federal information system.

The Department of Commerce Pre-Award Notification Requirements for Grants and Cooperative Agreements

The Department of Commerce Pre-Award Notification Requirements for Grants and Cooperative Agreements contained in the Federal Register notice of February 11, 2008 (73 FR 7696) are applicable to this solicitation.

Paperwork Reduction Act

This document contains collection-of-information requirements subject to the Paperwork Reduction Act (PRA). The use of Standard Forms 424 and 424A, 424B, 424C, 424D, and SF-LLL has been approved by OMB under the respective control numbers 4040-0004, 0348-0044, 4040-0007, 0348-0041, 4040-0009, and 0348-0046. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: December 22, 2008.
Maureen E. Wylie,
Acting Director, Acquisition and Grants Office.

[FR Doc. E8-30851 Filed 12-31-08; 8:45 am]

BILLING CODE 3510-22-P